DEPARTMENT OF THE INTERIOR

Bureau of Land Management

[CO-600-00-1010-PG-241A]

Northwest Colorado Resource Advisory Council Meeting

AGENCY: Bureau of Land Management, Interior.

ACTION: Notice of meeting.

SUMMARY: The next meeting of the Northwest Colorado Resource Advisory Council will be held on Friday March 17, 2000, at the Garfield County Courthouse in Glenwood Springs, Colorado.

DATE: Friday March 17, 2000.

ADDRESSES: For further information, contact Lynn Barclay, Bureau of Land Management (BLM), 455 Emerson Street, Craig, Colorado 81625; Telephone (970) 826-5096.

SUPPLEMENTARY INFORMATION: The Northwest Resource Advisory Council will meet on Friday March 17, 2000, at the Garfield County Courthouse, Suite 302, 109 8th Street, Glenwood Springs, Colorado. The meeting will start at 9 a.m. and include discussions of Black Ridge/Ruby Canyon management options, a RAC Wildlife subcommittee, Wilderness RMP Amendments, Travel Management, and interfacing with the USFS.

The meeting is open to the public. Interested persons may make oral statements at the meetings or submit written statements at the meeting. Per-person time limits for oral statements may be set to allow all interested persons an opportunity to speak.

Summary minutes of council meetings are maintained at the Bureau of Land Management Offices in Grand Junction and Craig, Colorado. They are available for public inspection and reproduction during regular business hours within thirty (30) days following the meeting.

Dated: January 25, 2000.
Larry Porter,
Acting Center Manager, Northwest Center.

[FR Doc. 00-2075 Filed 1-31-00; 8:45 am]

BILLING CODE 4310-70-P